DEPARTMENT OF THE TREASURY

Submission for OMB Review; Comment Request

June 16, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 22, 2009 to be assured of consideration.

Financial Management Service (FMS)

OMB Number: 1510-0067.

Type of Review: Revision.

Form: FMS 5903, FMS 5902.

Title: Resolution Authorizing Execution of Depositary, Financial Agency and Collateral Agreement, “and” Depositary, Financial Agency.

Description: Financial Institutions are required to complete an Agreement and Resolution to become a depositary of the Government. The approved application designates the depositary as an authorized recipient of deposits of public money and to perform other.

Respondents: Businesses or other for-profits.

Estimated Total Burden Hours: 8 hours.

Clearance Officer: Wesley Powe, (202) 874-7662, Financial Management Service, Room 135, 3700 East West Highway, Hyattsville, MD 20782.

OMB Reviewer: Shagufta Ahmed, (202) 395-7873, Office of Management and Budget, Room 10235, New Executive Office Building, Washington, DC 20503.

Celina Elphage,
Treasury PRA Clearance Officer.

[FR Doc. E9-14577 Filed 6-19-09; 8:45 am]

BILLING CODE 4810-35-P